DEPARTMENT OF ENERGY

Federal Energy Regulatory Commission

Combined Notice of Filings

Take notice that the Commission has received the following Natural Gas Pipeline Rate and Refund Report filings:

Filings Instituting Proceedings

Docket Numbers: RP19-1590-001.

Applicants: Honeoye Storage Corporation.

Description: Compliance filing Compliance Filing Adoption of NAESB Version 3.1 to be effective 11/1/2019.

Filed Date: 9/27/19.

Accession Number: 20190927-5084.

Comments Due: 5 p.m. ET 10/9/19.

Docket Numbers: RP19-1601-000.

Applicants: Natural Gas Pipeline Company of America.

Description: § 4(d) Rate Filing: MidAmerican Energy Services—Negotiated Rate Agreement Filing to be effective 11/1/2019.

Filed Date: 9/27/19.

Accession Number: 20190927-5000.

Comments Due: 5 p.m. ET 10/9/19.

Docket Numbers: RP19-1602-000.

Applicants: Natural Gas Pipeline Company of America.

Description: § 4(d) Rate Filing: Tenaska Marketing Ventures—Negotiated Rate Agreement Filing to be effective 11/1/2019.

Filed Date: 9/27/19.

Accession Number: 20190927-5001.

Comments Due: 5 p.m. ET 10/9/19.

Docket Numbers: RP19-1603-000.

Applicants: Stingray Pipeline Company, L.L.C.

Description: § 4(d) Rate Filing: Stingray Non-Conforming Agreements to be effective 10/27/2019.

Filed Date: 9/27/19.

Accession Number: 20190927-5024.

Comments Due: 5 p.m. ET 10/9/19.

Docket Numbers: RP19-1604-000.

Applicants: Portland Natural Gas Transmission System.

Description: Compliance filing PXP Phase II Compliance Filing to be effective 11/1/2019.

Filed Date: 9/27/19.

Accession Number: 20190927-5025.

Comments Due: 5 p.m. ET 10/9/19.

Docket Numbers: RP19-1605-000.

Applicants: Natural Gas Pipeline Company of America.

Description: Compliance filing Penalty Revenue Crediting Report from January through June 2019.

Filed Date: 9/27/19.

Accession Number: 20190927-5030.

Comments Due: 5 p.m. ET 10/9/19.

Docket Numbers: RP19-1606-000.

Applicants: Tennessee Gas Pipeline Company, L.L.C.

Description: § 4(d) Rate Filing: Pipeline Safety and Greenhouse Gas Cost Adjustment Mechanism—2019 to be effective 11/1/2019.

Filed Date: 9/27/19.

Accession Number: 20190927-5041.

Comments Due: 5 p.m. ET 10/9/19.

Docket Numbers: RP19-1608-000.

Applicants: National Fuel Gas Supply Corporation.

Description: § 4(d) Rate Filing: GT&C Sec 42 Tracker Filing (11/2019) to be effective 11/1/2019.

Filed Date: 9/27/19.

Accession Number: 20190927-5055.

Comments Due: 5 p.m. ET 10/9/19.

Docket Numbers: RP19-1609-000.

Applicants: Dauphin Island Gathering Partners.

Description: § 4(d) Rate Filing: Negotiated Rate Filing—Fieldwood 9-27-2019 to be effective 10/1/2019.

Filed Date: 9/27/19.

Accession Number: 20190927-5060.

Comments Due: 5 p.m. ET 10/9/19.

Docket Numbers: RP19-1610-000.

Applicants: Dominion Energy Transmission, Inc.

Description: § 4(d) Rate Filing: DETI—Modifications to GT&C for the Construction of Facilities to be effective 10/28/2019.

Filed Date: 9/27/19.

Accession Number: 20190927-5072.

Comments Due: 5 p.m. ET 10/9/19.

Docket Numbers: RP19-1611-000.

Applicants: Texas Eastern Transmission, LP.

Description: § 4(d) Rate Filing: Negotiated Rate—MC Global 911524 to Eco-Energy 8959558 eff 10-1-19 to be effective 10/1/2019.

Filed Date: 9/27/19.

Accession Number: 20190927-5088.

Comments Due: 5 p.m. ET 10/9/19.

Docket Numbers: RP19-1612-000.

Applicants: MoGas Pipeline LLC.

Description: § 4(d) Rate Filing: MoGas Negotiated Rate Tariff Filing to be effective 10/1/2019.

Filed Date: 9/27/19.

Accession Number: 20190927-5142.

Comments Due: 5 p.m. ET 10/9/19.

Docket Numbers: RP19-1613-000.

Applicants: Maritimes & Northeast Pipeline, L.L.C.

Description: § 4(d) Rate Filing: MNUS FRQ 2019 Filing to be effective 11/1/2019.

Filed Date: 9/27/19.

Accession Number: 20190927-5143.

Comments Due: 5 p.m. ET 10/9/19.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2019.
Kimberly D. Bose,
Secretary.

[FR Doc. 2019-22022 Filed 10-8-19; 8:45 am]

BILLING CODE 6717-01-P